DEPARTMENT OF COMMERCE

National Oceanic and Atmospheric Administration

RIN 0648-XC664

Mid-Atlantic Fishery Management Council (Council); Public Meeting

AGENCY: National Marine Fisheries Service (NMFS), National Oceanic and Atmospheric Administration (NOAA), Commerce.

ACTION: Notice of public meeting.

SUMMARY: The Council will hold public meetings in Narragansett, Rhode Island (RI) and Cape May, New Jersey (NJ) to get public input on potential changes to squid (longfin and Illex) assessment and management.

DATES: The Narragansett, RI meeting will be on May 22, 2013 from 10 a.m. to approximately noon, but may go later if necessary. The Cape May, NJ meeting will be on June 5, 2013 from 7 p.m. to approximately 9 p.m. but may go later if necessary.

ADDRESSES: The Narragansett, RI meeting will be held at Superior Trawl, 55 State Street, Narragansett, RI 02882, telephone: (401) 263-3671. The Cape May, NJ meeting will be held at the Congress Hall Hotel, 29 Perry St, Cape May, NJ 08204; telephone: (888) 944-1816.

Council address: Mid-Atlantic Fishery Management Council, 800 N. State Street, Suite 201, Dover, DE 19901; telephone: (302) 674-2331.

FOR FURTHER INFORMATION CONTACT: Christopher M. Moore Ph.D., Executive Director, Mid-Atlantic Fishery Management Council, 800 N. State Street, Suite 201, Dover, DE 19901; telephone: (302) 526-5255.

SUPPLEMENTARY INFORMATION: In January 2013, the Council held a workshop on squid (longfin and Illex) assessment and management. The workshop brought fishermen, managers, and academics together to discuss potential ways to make squid management more responsive to current conditions. A summary and additional materials from the workshop are available at: http://www.mafmc.org/workshop/squid-management-workshop-january-2013. Several recommendations came out of the workshop, including getting additional input from fishermen in convenient locations. These meetings address that recommendation and will solicit input from attendees on all of the potential ways to improve squid assessment and management that were recommended at the workshop.

Special Accommodations

The meeting is physically accessible to people with disabilities. Requests for sign language interpretation or other auxiliary aids should be directed to M. Jan Saunders at the Mid-Atlantic Council Office, (302) 526-5251, at least 5 days prior to the meeting date.

Dated: May 2, 2013.
Tracey L. Thompson,
Acting Deputy Director, Office of Sustainable Fisheries, National Marine Fisheries Service.

[FR Doc. 2013-10751 Filed 5-6-13; 8:45 am]

BILLING CODE 3510-22-P